DEPARTMENT OF COMMERCE

National Oceanic and Atmospheric Administration

RIN: 0648-XP30

New England Fishery Management Council; Public Meetings

AGENCY: National Marine Fisheries Service (NMFS), National Oceanic and Atmospheric Administration (NOAA), Commerce.

ACTION: Notice of public meetings.

SUMMARY: The New England Fishery Management Council (Council) is scheduling public meetings of its Monkfish Advisory Panel and its Monkfish Committee, on June 2, 2009 and June 3, 2009, to consider actions affecting New England fisheries in the exclusive economic zone (EEZ). Recommendations from these groups will be brought to the full Council for formal consideration and action, if appropriate.

DATES: This Advisory Panel meeting will be held on Tuesday, June 2, 2009 at 9 a.m. and the Committee meeting will be held on Wednesday, June 3, 2009 at 9 a.m.

ADDRESSES: The meetings will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Advisory Panel and the Committee will finalize recommendations to the Councils for measures to be considered in the Draft Environmental Impact Statement (DEIS) for Amendment 5, including, but not limited to: biological and management reference points; specifications of catch target and management measures to achieve the targets (DAS, trip limits and other measures); modifications, additions or deletions to the management measures currently in the plan; and, if time allows, catch share programs (ITQs and/or sectors). The Committee will consider Advisory Panel recommendations in finalizing its recommendations to the Mid-Atlantic Council at their June 9-11 meeting and to the New England Council at its June 23-25 meeting.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: May 13, 2009.
Tracey L. Thompson,
Acting Director, Office of Sustainable Fisheries, National Marine Fisheries Service.

[FR Doc. E9-11474 Filed 5-15-09; 8:45 am]

BILLING CODE 3510-22-S